DEPARTMENT OF DEFENSE

Office of the Secretary

Defense Policy Board: Notice of Federal Advisory Committee Meeting

AGENCY: Under Secretary of Defense for Policy, Department of Defense (DoD).

ACTION: Notice of Federal Advisory Committee meeting.

SUMMARY: The DoD is publishing this notice to announce the following Federal advisory committee meeting of the Defense Policy Board (DPB) will take place.

DATES: Closed to the public; Tuesday, March 5, 2024, from 8:30 a.m. to 5:30 p.m.

Closed to the public; Wednesday, March 6, 2024, from 10:00 a.m. to 12:00 p.m.

ADDRESSES: The closed meeting will be held in the Rodman Conference Room, 3D852, at The Pentagon, 2000 Defense Pentagon, Washington, DC 20301-2000.

FOR FURTHER INFORMATION CONTACT: Lt Col Jesse Humpal (U.S. Air Force), (571) 256-8395 (Voice), jesse.r.humpal.mil@mail.mil (Email). Mailing address is 2000 Defense Pentagon, Attn: 5E420, Washington, DC 20301-2000. You may also reference https://policy.defense.gov/OUSDP-Offices/Defense-Policy-Board/.

SUPPLEMENTARY INFORMATION: This meeting is being held under the provisions of chapter 10 of title 5, United States Code (U.S.C.) (commonly known as the “Federal Advisory Committee Act” or “FACA”), 5 U.S.C. 552b (commonly known as the “Government in the Sunshine Act”), and sections 102-3.140 and 102-3.150 of title 41, Code of Federal Regulations (CFR).

Due to circumstances beyond the control of the Designated Federal Officer and the Department of Defense, the Defense Policy Board was unable to provide public notification required by 41 CFR 102-3.150(a) concerning its March 5-6, 2024 meeting. Accordingly, the Advisory Committee Management Officer for the Department of Defense, pursuant to 41 CFR 102-3.150(b), waives the 15-calendar day notification requirement.

Purpose of the Meeting: To obtain, review, and evaluate classified information related to the DPB's mission to advise on: (a) issues central to strategic DoD planning; (b) policy implications of U.S. force structure and modernization on DoD's ability to execute U.S. defense strategy; (c) U.S. regional defense policies; and (d) other defense policy topics of special interest to the DoD, as determined by the Secretary of Defense, the Deputy Secretary of Defense, or the Under Secretary of Defense for Policy.

Agenda: On March 5, 2024, and March 6, 2024, the DPB will received classified briefings to evaluate the potential impact of an attack by the People's Republic of China's (PRC) on U.S. Defense Critical Infrastructure (DCI). Lt Col Jesse Humpal, Designated Federal Officer and Dr. Janine Davidson, Chair of the Defense Policy Board will provide opening remarks; The Hon. Sasha Baker, Acting Under Secretary of Defense for Policy, and Ms. Madeline Mortelmans, Acting Assistant Secretary of Defense for Strategy Plans and Capabilities, will welcome the DPB and provide a strategic overview; Thomas Sisk, Defense Intelligence Officer for China, will discuss the PRC threat to the Homeland and DCI; Teresa Whelan, Director Defense Intelligence Collections and Special Programs, and Ms. Lauren Murphy, Cost Assessment and Program Evaluation, will discuss the potential impact of PRC attacks on homeland DCI; and Ms. Rebecca Zimmerman, Performing the Duties of Assistant Secretary of Defense for Homeland Defense and Hemispheric Affairs, will discuss DoD plans and strategy for defending DCI. After lunch, Ms. Rebecca Zimmerman, Performing the Duties of Assistant Secretary of Defense for Homeland Defense and Hemispheric Affairs, Caitlin Durkovich, Special Assistant to the President and Deputy Homeland Security Advisor for Resilience and Response, National Security Council, and Iranga Kahangama, Assistant Secretary for Cyber, Infrastructure, Risk, and Resilience, Department of Homeland Security, will discuss interagency perspectives on the wartime PRC threat to DCI; General Gregory M. Guillot, Commander USNORTHCOM/NORAD, will discuss their perspective on how their combatant command is addressing the DCI issue; General Jacqueline D. Van Ovost, Commander USTRANSCOM, will discuss their perspective on how their combatant command is addressing the DCI issue; and Dr. Janine Davidson, the DPB Chair, will lead the DPB through discussions and deliberations on Defense Critical Infrastructure challenges. Day One will conclude. Day Two begins with Dr. Janine Davidson, the DPB Chair, leading the DPB through discussions and deliberations on Defense Critical Infrastructure challenges; and the DPB will then provide its advice and recommendations to the Hon. Lloyd James Austin III, Secretary of Defense. The meeting will then conclude.

Meeting Accessibility: In accordance with 5 U.S.C. 1009(d) and 41 CFR 102-3.155, the DoD has determined that this meeting shall be closed to the public. The Acting Under Secretary of Defense (Policy), in consultation with the DoD FACA Attorney, has determined in writing that this meeting be closed to the public because the discussions fall under the purview of 5 U.S.C. 552b(c)(1) and are so inextricably intertwined with unclassified material that they cannot reasonably be segregated into separate discussions without disclosing classified material.

Written Statements: In accordance with 5 U.S.C. 1009(a)(3) and 41 CFR 102-3.105(j) and 102-3.140(c), the public or interested organizations may submit written statements to the membership of the DPB at any time regarding its mission or in response to the stated agenda of a planned meeting. Written statements should be submitted to the DPB's DFO, which is listed in this notice or can be obtained from the GSA's FACA Database— http://www.facadatabase.gov/. Written statements that do not pertain to a scheduled meeting of the DPB may be submitted at any time. However, if individual comments pertain to a specific topic being discussed at a planned meeting, then these statements must be submitted no later than five business days prior to the meeting in question. The DFO will review all submitted written statements and provide copies to all members.

Dated: February 22, 2024.
Aaron T. Siegel,
Alternate OSD Federal Register Liaison Officer, Department of Defense.

[FR Doc. 2024-04024 Filed 2-26-24; 8:45 am]

BILLING CODE 6001-FR-P